NATIONAL CREDIT UNION ADMINISTRATION

Sunshine Act; Notice of Agency Meeting

TIME AND DATE: 10 a.m., Thursday, November 21, 2019.

PLACE: Board Room, 7th Floor, Room 7047, 1775 Duke Street (All visitors must use Diagonal Road Entrance), Alexandria, VA 22314-3428.

STATUS: Open.

MATTERS TO BE CONSIDERED:

1. Share Insurance Fund Quarterly Report.

2. Guidance Regarding Prohibitions Imposed by Statute.

3. NCUA Rules and Regulations, Part 722, Real Estate Appraisals.

RECESS: 11:15 a.m.

TIME AND DATE: 11:30 a.m., Thursday, November 21, 2019.

PLACE: Board Room, 7th Floor, Room 7047, 1775 Duke Street, Alexandria, VA 22314-3428.

STATUS: Closed.

MATTERS TO BE CONSIDERED:

1. Personnel Action. Closed pursuant to Exemptions (2) and (6).

FOR FURTHER INFORMATION CONTACT: Gerard Poliquin, Secretary of the Board, Telephone: 703-518-6304.

Gerard Poliquin,
Secretary of the Board.

[FR Doc. 2019-25039 Filed 11-14-19; 4:15 pm]

BILLING CODE 7535-01-P